DEPARTMENT OF ENERGY

Proposed Agency Information Collection

AGENCY: U.S. Department of Energy.

ACTION: Notice and Request for Comments.

SUMMARY: The Department of Energy (DOE) invites public comment on a proposed collection of information that DOE is developing for submission to the Office of Management and Budget (OMB) pursuant to the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before December 13, 2011. If you anticipate difficulty in submitting comments within that period, contact the person listed in ADDRESSES as soon as possible.

ADDRESSES: Written comments may be sent to Chris O'Gwin or by fax at (301) 903-5488, or by e-mail at chris.ogwin@science.doe.gov.

FOR FURTHER INFORMATION CONTACT: Requests for additional information or copies of the information collection instrument and instructions should be directed to Chris O'Gwin or by fax at (301) 903-5488, or by e-mail at chris.ogwin@science.doe.gov.

SUPPLEMENTARY INFORMATION: This information collection request contains: (1) OMB No. New; (2) Information Collection Request Title: Small Business Innovation Research (SBIR) and Small Business Technology Transfer (STTR) Commercialization Survey; (3) Type of Request: New; (4) Purpose: The DOE needs this information to satisfy the program requirements of the Small Business Act, including requirements established in the SBIR program reauthorization legislation, Public Law 106-554 and Public Law 107-50. This data will be collected by the DOE and provided to the Small Business Administration (SBA) to maintain information about SBIR/STTR awards issued through the two programs. This data will be provided by DOE based on information collected from SBIR/STTR awardees. This data will be used by DOE, SBA, and Congress to assess the commercial impact of these two programs; (5) Annual Estimated Number of Respondents: 2,500; (6) Annual Estimated Number of Total Responses: 2,500; (7) Annual Estimated Number of Burden Hours: 2,500; (8) Annual Estimated Reporting and Recordkeeping Cost Burden: 0.

Statutory Authority: Section 9 of the Small Business Act, as amended, codified at 15 U.S.C. 638(g).

Issued in Washington, DC on October 6, 2011.
Manny Oliver,
SBIR/STTR Programs Director, Office of Science, U.S. Department of Energy.

[FR Doc. 2011-26509 Filed 10-13-11; 8:45 am]

BILLING CODE 6450-01-P